POSTAL SERVICE

39 CFR Part 111

Address Correction Notices

AGENCY: Postal Service™.

ACTION: Proposed rule.

SUMMARY: The Postal Service is proposing to amend Mailing Standards of the United States Postal Service, Domestic Mail Manual (DMM®) in section 705.23, to update information regarding address correction requests and remove hardcopy address correction notice options for Full-Service and Seamless Acceptance mailers.

DATES: Submit comments on or before December 9, 2022.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Address Correction Notices”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Starlene Blackwood at (901) 681-4475 or Garry Rodriguez at (202) 268-7281.

SUPPLEMENTARY INFORMATION:

Background

Ancillary service endorsements provide an option for mailers to instruct the Postal Service on how to treat their mail if it is determined to be undeliverable-as-addressed and to request address correction services. Address corrections are currently available in four available formats: a returned mailpiece with the new address or reason for nondelivery attached; PS Form 3547 Notice to Mailer of Correction in Address that is mailed to the return address on a mailpiece; PS Form 3579 Notice of Undeliverable Periodical mailed to the publisher address indicated in the publication ID Statement; or via ACS™ (Address Change Service) which is an electronic address correction notice made available to the sender via download from a secure USPS website that requires a login and password to access the files. Address correction fees are charged based on the method in which they are provided, with return mail costs and manual address correction fees that reflect the USPS costs to handle those notices.

Participating Full-Service and Seamless Acceptance mailers receive ACS notices at no charge. As a result, notices provided to mailers in this format has far exceeded the volume of returned mail and PS Forms 3547 and 3579 requested and generated from undeliverable Full-Service and Seamless Acceptance mail.

Proposal

The Postal Service is proposing to remove the option to request PS Forms 3547, Notice to Mailer of Correction in Address, and PS Form 3579, Notice of Undeliverable Periodical, for Full-Service and Seamless Acceptance mailers.

Full Service and Seamless Acceptance mailers and publishers that desire address correction information from undeliverable as addressed (UAA) mail will be required to receive address correction notices electronically via ACS. Those mailers that apply the ancillary service endorsement “Address Service Requested” or “Change Service Requested” to their mail, and Periodical publishers will receive ACS notices via the Data Distribution Dashboard from the Business Customer Gateway or by enrolling in the Electronic Product Fulfillment (EPF) secure website at https://epf.usps.gov. When appropriate, the electronic or automated address correction fees will be charged for each ACS notice provided.

The Postal Service is proposing to implement this change effective July 9, 2023. However, mailers that currently request manual address corrections via PS Form 3547 or PS Form 3579 may begin to request ACS immediately. We believe this proposed revision will provide customers with more efficient and less costly address correction notices.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

* * * * *

507 Mailer Services

* * * * *

4.0 Address Correction Services

* * * * *

4.2 Address Change Service (ACS)

* * * * *

4.2.6 Additional Standards—When Using Intelligent Mail Barcodes

[Revise the introductory text of 4.2.6 to read as follows:]

Mailers can access OneCode ACS using an Intelligent Mail barcode, which contains a valid Service Type Identifier indicating the ancillary service requested; a numeric Mailer ID; and the Serial Number, a unique numeric mailpiece identifier (Keyline equivalent). This option is available for letters and flat size pieces mailed as First-Class Mail, USPS Marketing Mail, and Periodicals. Address Service, Change Service and Return Service Ancillary Services are available for letters and flat-sized mail pieces mailed as First-Class Mail, USPS Marketing Mail, and Bound Printed Matter (BPM), by choosing the appropriate ACS Service Type Identifier in the Intelligent Mail barcode. USPS Marketing Mail and Bound Printed Matter pieces with ACS using an Intelligent Mail barcode require the use of a printed on-piece endorsement. ACS mailers are encouraged to use the “Electronic Service Requested” text endorsement. Other printed endorsements are not required to request ancillary services in conjunction with an Intelligent Mail barcode used on First-Class Mail or Periodicals mailpieces, and their use may produce unintended results. Full-Service and Seamless Acceptance mailers that desire separate address corrections using Address Service and Change Service ancillary services must request ACS and will receive the ACS notices through Full Service. See 705.23.5.2 for additional standards. For other mailers, in order to receive requested ACS information, mailers must notify the NCSC, ACS Department in Memphis, TN, in writing, seven days prior to mailing to establish a method for ACS notice fulfillment and to arrange for payment of electronic or automated address correction fees. Mailpieces must meet the following specifications:

* * * * *

700 Special Standards

* * * * *

705 Advanced Preparation and Special Postage Payment Systems

* * * * *

23.0 Full-Service Automation Option

* * * * *

23.5 Additional Standards

* * * * *

23.5.2 Address Correction Notices

[Revise the text of 23.5.2 to read as follows:]

Mailers presenting mailpieces (except for those noted below) that qualify for the full-service Intelligent Mail option will receive automated address correction notices electronically when the pieces are encoded with Intelligent Mail barcodes with “Address Service Requested” or “Change Service Requested” under standards for OneCode ACS and under the following conditions:

a. Mailpieces must include the appropriate ACS service type ID in the Intelligent Mail barcode to match the ancillary service requested. See 507.1.5 for mail disposition and address correction combinations by class of mail.

b. Complimentary ACS ancillary service address correction notices for mailpieces in full-service mailings are available for:

1. First-Class Mail letters and flats, provided at no charge (printed endorsement not required for letters).

2. Periodicals letters and flats, provided at no charge (printed endorsement not required).

3. USPS Marketing Mail letters and flats or BPM flats, provided at no charge. USPS Marketing Mail and BPM pieces must include a printed on-piece endorsement in addition to encoding the ACS ancillary service request into the Intelligent Mail barcode. See 507.4.2 for additional standards.

c. Mailers must use the ACS address correction information provided by USPS to update their address records to receive notices without paying additional fees. Beginning July 9, 2023, address corrections will only be provided electronically in the Business Customer Gateway under Mailing Reports utilizing the Data Distribution and Informed Visibility Dashboard

d. A new Service Type Identifier (STID) Table will be published on PostalPro removing all STID references for manual corrections when mailers present qualifying Full-Service mail.

* * * * *

Sarah Sullivan,
Attorney, Ethics & Legal Compliance.

[FR Doc. 2022-24136 Filed 11-8-22; 8:45 am]

BILLING CODE 7710-12-P